NUCLEAR REGULATORY COMMISSION

[NUREG-1600]

Proposed Revision of the NRC Enforcement Policy

AGENCY: Nuclear Regulatory Commission.

ACTION: Policy Statement: notification of proposed revision.

SUMMARY: The Nuclear Regulatory Commission (NRC) is considering a revision to its General Statement of Policy and Procedure for NRC Enforcement Actions (NUREG-1600) (Enforcement Policy or Policy). This proposed revision primarily clarifies the guidance in Section VIII, “Enforcement Actions Involving Individuals.” The intent of the revision is to more clearly identify the thresholds and outcomes for taking enforcement actions that involve individuals. The proposed revision is available for review on the Office of Enforcement's “Public Participation” page of its website (www.nrc.gov/OE/).

DATES: The proposed policy revision will be available for review until April 22, 2001.

FOR FURTHER INFORMATION CONTACT: Nick Hilton, Enforcement Specialist, Office of Enforcement, U.S. Nuclear Regulatory Commission, Washington, DC 20555-0001, (301) 415-2741, email ndh@nrc.gov.

Dated at Rockville, Maryland, this 5th day of March, 2001.
For the Nuclear Regulatory Commission.
Richard W. Borchardt,
Director, Office of Enforcement.

[FR Doc. 01-5809 Filed 3-8-01; 8:45 am]

BILLING CODE 7590-01-P